DEPARTMENT OF EDUCATION

Web-Based Education Commission; Telephone Conference Call

AGENCY: Office of Postsecondary Education, Education.

ACTION: Notice of full Commission telephone conference call.

SUMMARY: This notice announces the telephone conference call for the full Commission. Notice of this conference call is required under Section 10(a)(2) of the Federal Advisory Committee Act. This document is intended to notify the general public of their opportunity to call into the conference.

DATES: The conference call will be on March 27, 2000, from 12:00-1:00 pm eastern standard time. Individuals interested in listening in on the call should contact the Commission for instructions.

FOR FURTHER INFORMATION CONTACT: David S. Byer, Executive Director, Congressional Web-based Education Commission, U.S. Department of Education, 1990 K Street, NW, Washington, DC 20006-8533. Telephone: (202) 219-7045. Fax: (202) 502-7873. You may reach Mr. Byer by email at: david_byer@ed.gov.

SUPPLEMENTARY INFORMATION: The Web-based Education Commission is authorized by title VIII, part J of the Higher Education Amendments of 1998, as amended by the Fiscal 2000 Appropriations Act for the Departments of Labor, Health, and Human Services, and Education, and Related Agencies. The Commission is required to conduct a thorough study to assess the critical pedagogical and policy issues affecting the creation and use of web-based and other technology-mediated content and learning strategies to transform and improve teaching and achievement at the K-12 and postsecondary education levels. The Commission must issue a final report to the President and the Congress, not later than 12 months after the first meeting of the Commission, which occurred November 16-17, 1999. The final report will contain a detailed statement of the Commission's findings and conclusions, as well as recommendations.

The purpose of the March 27 conference call is to (1) provide an update on Commission activities; (2) discuss the formation of working groups and the assignment of members to each group; (3) report on web site presence; and (4) plan for the next hearing of the Commission, tentatively scheduled for April 7-8 in Silicon Valley.

The conference call is open to the public. Records are kept of all Commission proceedings and are available for public inspection at the office of the Web-based Education Commission, Room 8089, 1990 K Street, NW, Washington, DC 20006-8533 from the hours of 9:00 am to 5:30 pm. The meeting site is accessible to individuals with disabilities. Individuals who will need accommodations for a disability in order to attend the meeting (i.e. interpreting services, assistive listening devices, or materials in alternative format) should contact the person listed in this notice at least two weeks before the scheduled meeting date. We will attempt to meet requests after this date, but cannot guarantee availability of the requested accommodation.

Dated: March 22, 2000.
A. Lee Fritschler,
Assistant Secretary, Office of Postsecondary Education.

[FR Doc. 00-7510 Filed 3-24-00; 8:45 am]

BILLING CODE 4000-01-M